DEPARTMENT OF HEALTH AND HUMAN SERVICES

National Institutes of Health

National Cancer Institute; Amended Notice of Meeting

Notice is hereby given of a change in the teleconference meeting of the National Cancer Institute Board of Scientific Advisors ad hoc Subcommittee on HIV/AIDS Malignancy, August 08, 2013, 10:30 a.m. to 12:00 p.m., National Cancer Institute, NIH, Building 10, Room 10S255, 10 Center Drive, Bethesda, MD 20892 which was published in the Federal Register on July 24, 2013, 78FR44577.

This meeting notice is amended to provide a change in location for the public. The location for the public is National Cancer Institute Shady Grove, 9609 Medical Center Drive, Seventh Floor, West Tower, Room 7W034, Rockville, MD 20850. As previously indicated, members of the public may also dial-in to the teleconference using the following number: 866-492-1791. The meeting is open to the public.

Dated: July 25, 2013.
Melanie J. Gray,
Program Analyst, Office of Federal Advisory Committee Policy.

[FR Doc. 2013-18326 Filed 7-30-13; 8:45 am]

BILLING CODE 4140-01-P